DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Submissions Regarding Correspondence and Regarding Attorney Representation (Trademarks).

Form Number(s): PTO Forms 2196, 2197, and 2201.

Agency Approval Number: 0651-0056.

Type of Request: Extension of a currently approved collection.

Burden: 12,491 hours annually.

Number of Respondents: 160,004 responses per year with an estimated 142,226 responses filed electronically.

Avg. Hours per Response: The USPTO estimates that it will take the public between 3 to 15 minutes (0.05 to 0.25 hours) to complete the information in this collection, depending on the nature of the information and whether the information is transmitted electronically or submitted in paper. This includes the time to gather the necessary information, prepare it, and submit it to the USPTO. The time estimates for the electronic forms in this collection are based on the average amount of time needed to complete and electronically file the associated form.

Needs and Uses: This collection of information is required by the Trademark Act, 15 U.S.C. 1051 et seq. and is implemented through the Trademark rules set forth in 37 CFR Part 2. It provides for the appointment of attorneys of record or domestic representatives to represent applicants in the application process, for the revocation of those appointments, for attorneys to request permission to withdraw as the attorney of record, and for changes in the owner's addresses. The USPTO uses the information to process the various requests. This collection contains three electronic forms that are available through the Trademark Electronic Application System (TEAS); there are no official paper forms. The information in this collection is available to the public and is used in a variety of private business purposes related to establishing and enforcing trademark rights.

Affected Public: Primarily businesses or other for-profit organizations.

Frequency: On occasion.

Respondent's Obligation: Required to obtain or retain benefits.

OMB Desk Officer: David Rostker (202) 395-3897.

Copies of the above information collection proposal can be obtained by any of the following:

• E-mail: Susan.Fawcett@uspto.gov. Include “0651-0056 copy request” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be sent on or before August 11, 2008 to David Rostker, OMB Desk Officer, Room 10202, New Executive Office Building, 725 17th Street, NW., Washington, DC 20503.

Dated: July 2, 2008.
Susan K. Fawcett,
Records Officer, USPTO, Office of the Chief Information Officer, Customer Information Services Group, Public Information Services Division.

[FR Doc. E8-15679 Filed 7-9-08; 8:45 am]

BILLING CODE 3510-16-P